SUBSTANCE ABUSE AND MENTAL HEALTH SERVICES ADMINISTRATION

Agency Information Collection Activities: Proposed Collection; Comment Request

The Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Site Visits With Grantees Integrating HIV Primary Care, Substance Abuse, and Behavioral Health Services—NEW

The Substance Abuse and Mental Health Services Administration (SAMSHA) is requesting approval to conduct in-person Site Visit Interviews with Minority AIDS Initiative—Targeted Capacity Expansion (MAI-TCE) Grantees Integrating HIV Primary Care, Substance Abuse, and Behavioral Health Services. This is a new project request targeting the collection of programmatic level data (e.g., services provision, program administration, consumer involvement, evaluation planning, organizational capacity) through one-on-one and group interviews and site assessment surveys with grantee personnel.

The goals of the MAI-TCE project are to facilitate the development and expansion of culturally competent and effective integrated behavioral health and primary care, which include HIV services and medical treatment within 11 of the 12 Metropolitan Statistical Areas (MSAs) and Metropolitan Divisions (MDs) most heavily impacted by HIV/AIDS. The program also supports the integration of behavioral health services (i.e., prevention, treatment, and substance abuse) into the CDC's Enhanced Comprehensive HIV Prevention Plans (ECHPP). Interviews conducted with MAI-TCE grantees during site visits are an integral part of efforts to evaluate: (1) The effectiveness of program implementation across the grantee sites; (2) grantee efforts to integrate behavioral health, substance abuse and HIV care; (3) the variety of program models in use across the grantee sites; and, (4) grantee efforts to engage and successfully reach their target populations.

SAMHSA will conduct a total of two in-person site visits with each of the 11 MAI-TCE program grantees, with surveys being administered prior to each site visit.

SAMHSA will conduct interviews with grantee staff who will provide information on their program's integration of primary care and behavioral health services. While participating in the evaluation is a condition of the grantees' funding, participating in the interview and survey process is voluntary. Both instruments are designed to collect information about: Specific program components; HIV testing integration challenges, successes, and lessons learned; HIV care and evidence-based behavioral health services for their specific populations of focus; and engaging consumers in the Behavioral Health and Primary Care Network Committee and other aspects of the project, including how cultural competence is operationalized.

Below is the table of the estimated total burden hours:

Exhibit 1—Estimate of Reporting Burden: One Site Visit Round
Data collection tool | Number of respondents | Responses per respondent | Hour per response | Total burden hours
Interview Guide | 132 | 1 | 2.5 | 330
Assessment Form | 55 | 1 | .3 | 18.3
Total | * 132 | 2 | 2.8 | 348.3
* Note: The 55 respondents identified for the self-assessment are included in the 132 overall participants listed for the site visit protocol.

Send comments to Summer King, SAMHSA Reports Clearance Officer, Room 2-1027, One Choke Cherry Road, Rockville, MD 20857 or email a copy to summer.king@samhsa.hhs.gov. Written comments should be received within 60 days of this notice.

Summer King,
Statistician.

[FR Doc. 2012-23875 Filed 9-27-12; 8:45 am]

BILLING CODE 4162-20-P